DEPARTMENT OF TRANSPORTATION

National Highway Traffic Safety Administration

[Docket Number NHTSA-2000-8273, Notice 2]

Reports, Forms, and Recordkeeping Requirements

AGENCY: National Highway Traffic Safety Administration (NHTSA), Department of Transportation.

ACTION: Extension of comment period.

SUMMARY: This document grants a request by the Association of International Automobile Manufacturers, Inc. to extend for 30 days from release of the agency's evaluation study of the Parts Content Labeling Regulations, the comment period on the agency's request for public comment on the proposal to extend and reinstate two information collections previously approved by the Office of Management and Budget (OMB), 49 CFR 537—Automotive Fuel Economy Reports and 49 CFR 583-Automobile Parts Content Labeling.

DATES: Comments must be received on April 9, 2001.

ADDRESSES: Comments should refer to Docket No. NHTSA-2000-8273 and be submitted to U.S. Department of Transportation Dockets, Room PL-401, 400 Seventh Street, SW., Washington, DC 20590. The Docket Section is open on weekdays from 10 a.m. to 5 p.m.

FOR FURTHER INFORMATION CONTACT: Henrietta L. Spinner, NHTSA, Office of Planning and Consumer Programs, (202) 366-0846 or FAX to (202) 366-4490. The mailing address is National Highway Traffic Safety Administration, NPS-32, 400 Seventh St., SW, Washington, DC 20590.

SUPPLEMENTARY INFORMATION: On Monday, January 8, 2001, NHTSA published a request for comment on the agency's proposed collections of information. The document described two collections, 49 CFR Part 537-Automotive Fuel Economy Reports and 49 CFR Part 583-Automobile Parts Content Labeling.

Under the Paperwork Reduction Act of 1995, before an agency submits a proposed collection of information to OMB for approval, it must publish a document in the Federal Register providing a 60-day comment period and otherwise consult with members of the public and affected agencies concerning each proposed collection of information. OMB has promulgated regulations describing what must be included in such a document pursuant to 5 CFR 1320.8 (d).

In compliance with OMB's regulations, NHTSA sought comment on 49 CFR 537, Automotive Fuel Economy Reports (OMB Control No. 2127-0019). 49 CFR Part 537 requires automobile manufacturers to submit semi-annual reports to NHTSA regarding their efforts to improve fuel economy.

This information assists NHTSA in evaluating automobile manufacturers' plans for complying with average fuel economy standards and in preparing an annual review of the average fuel economy standards. The information is collected by NHTSA by having the automobile manufacturers mail their semi-annual automotive fuel economy reports and/or submit a copy on computer diskette to the agency. The required information is used for four basic purposes. These purposes are: (a) to give NHTSA advance indication if any manufacturer will fail to comply with the applicable average fuel economy standards; (b) to give NHTSA necessary information to prepare fuel economy reports; (c) to assist NHTSA in responding to general information requests concerning automotive fuel economy, which are routinely received from Congress, other parts of the Executive branch, and the public; and (d) to provide NHTSA with detailed and accurate technical and economic information used to evaluate possible future average fuel economy standards which may be established by NHTSA.

NHTSA also requested comment on 49 CFR 583—Automobile Parts Content Labeling (OMB Control No. 2127-0573), which establishes requirements for the disclosure of information relating to the countries of origin of the equipment of new passenger motor vehicles.

This information will be used by NHTSA to determine whether manufacturers are complying with the American Automobile Labeling Act (49 United States Code 32304). The American Automobile Labeling Act requires all new passenger motor vehicles (including passenger cars, certain small buses, all light trucks and multipurpose passenger vehicles with a gross vehicle weight rating of 8,500 pounds or less), to bear labels providing information about domestic and foreign content of their equipment. With the affixed label on the new passenger motor vehicle, it serves as an aid to potential purchasers in the selection of new passenger motor vehicles by providing them with information about the value of the U.S./Canadian and foreign parts of each vehicle, the countries of origin of the engine and transmission, and the site of the vehicle's final assembly.

The notice specified a comment closing date of March 9, 2001 (60 days after date of publication). However, on February 22, 2001, we received a request for an extension of the comment closing date from the Association of International Automobile Manufacturers, Inc. (AIAM). The AIAM stated that it would need at least 30 days from release of the agency's evaluation study of the Parts Content Labeling Regulations for review and to allow for public comment thereon in the context of the Paperwork Reduction Act Clearance for 49 CFR Part 583.

NHTSA wants the public to have adequate time to analyze the evaluation study which was released in early March for public comment. Therefore, the request for an additional 30 days from release of the evaluation does not seem excessive. Thus, to provide the AIAM and other interested parties ample time and opportunity to analyze the evaluation study of the Parts Content Labeling Regulations and to present its comment on this proposal, NHTSA believes that there is good cause for the extension of the comment period and that such an extension is consistent with the public interest. Accordingly, the AIAM's request to extend the comment for an additional 30 days from release of the evaluation is granted. The comment period will now close on April 9, 2001.

Dated: March 6, 2001.
Stephen R. Kratzke,
Associate Administrator for Safety Performance Standards.

[FR Doc. 01-5906 Filed 3-8-01; 8:45 am]

BILLING CODE 4910-59-P